DEPARTMENT OF THE INTERIOR

Bureau of Land Management

[AK964-1410-HY-P; FF-14945-A, DYA-2]

Alaska Native Claims Selection

AGENCY: Bureau of Land Management, DOI.

ACTION: Notice of decisions approving lands for conveyance.

SUMMARY: As required by 43 CFR 2650.7(d), notice is hereby given that an appealable decision approving lands for conveyance pursuant to the Alaska Native Claims Settlement Act will be issued to MTNT, Limited, Successor in Interest to Seseui, Incorporated and Doyon, Limited. The lands are located in T. 22 S., R. 28 E., T. 23 S., R. 28 E., and T. 23 S., R. 29 E., Kateel River Meridian, Alaska, in the vicinity of Telida Alaska, and contain 5,280.36 acres. Notice of the decision will also be published four times in the Tundra Drums.

DATES: The time limits for filing an appeal are:

1. Any party claiming a property interest which is adversely affected by the decision shall have until April 3, 2006 to file an appeal.

2. Parties receiving service of the decision by certified mail shall have 30 days from the date of receipt to file an appeal.

Parties who do not file an appeal in accordance with the requirements of 43 CFR part 4, Subpart E, shall be deemed to have waived their rights.

ADDRESSES: A copy of the decision may be obtained from: Bureau of Land Management, Alaska State Office, 222 West Seventh Avenue, #13, Anchorage, Alaska 99513-7599.

FOR FURTHER INFORMATION, CONTACT: D. Kay Erben, by phone at (907) 271-4515, or by e-mail at kay_erben@ak.blm.gov. Persons who use a telecommunication device (TTD) may call the Federal Information Relay Service (FIRS) at 1-800-877-8330, 24 hours a day, seven days a week, to contact Mrs. Erben.

D. Kay Erben,
Land Law Examiner, Branch of Adjudication II.

[FR Doc. E6-3044 Filed 3-2-06; 8:45 am]

BILLING CODE 4310-$$-P